DEPARTMENT OF COMMERCE

International Trade Administration

[A-533-840]

Certain Frozen Warmwater Shrimp From India: Notice of Court Decision Not in Harmony With the Results of Antidumping Administrative Review; Notice of Amended Final Results; Correction

AGENCY: Enforcement and Compliance, International Trade Administration, Department of Commerce.

ACTION: Notice; correction.

SUMMARY: The Department of Commerce (Commerce) published notice in the Federal Register of September 30, 2021, of the amended final results of the 2017-2018 administrative review of the antidumping duty order on certain frozen warmwater shrimp from India. This notice reflected incorrect cash deposit instructions for Calcutta Seafoods Pvt. Ltd./Bay Seafood Pvt. Ltd./Elque & Co. and Milsha Agro Exports Pvt. Ltd.

DATES: Applicable December 9, 2021.

FOR FURTHER INFORMATION CONTACT: David Crespo, AD/CVD Operations, Office II, Enforcement and Compliance, International Trade Administration, U.S. Department of Commerce, 1401 Constitution Avenue NW, Washington, DC 20230; telephone: (202) 482-3693.

SUPPLEMENTARY INFORMATION:

Correction

In the Federal Register of September 30, 2021, in FR Doc 2021-21256, on page 54157, in the second column under the section titled, “Cash Deposit Requirements,” correct the cash deposit instructions to be issued to U.S. Customs and Border Protection (CBP). Specifically, Calcutta Seafoods Pvt. Ltd./Bay Seafood Pvt. Ltd./Elque & Co. does not have a superseding cash deposit rate; therefore, we will issue revised cash deposits instructions to CBP. In addition, Milsha Agro Exports Pvt. Ltd. has a superseding cash deposit rate; therefore, we will not issue revised cash deposit instructions to CBP.

Background

On September 30, 2021, Commerce published in the Federal Register the amended final results of the administrative review of the antidumping duty order on shrimp from India covering the period Feburary 1, 2017, through January 31, 2018.¹ In the Amended Final Results, we incorrectly stated that Calcutta Seafoods Pvt. Ltd./Bay Seafood Pvt. Ltd./Elque & Co. had a superseding cash deposit rate; however, no such instructions have been issued. Because no superseding rate is in place, we will issue revised cash deposit instructions to CBP. In addition, in the Amended Final Results, we incorrectly stated that we would issue revised cash deposit instructions to CBP with respect to Milsha Agro Exports Pvt. Ltd. However, this company currently has a superseding rate, and, therefore, no revised cash deposit instructions will be issued. This notice serves to correct these errors. No other changes have been made to the Amended Final Results.

¹ See Certain Frozen Warmwater Shrimp from India: Notice of Court Decision Not in Harmony With the Results of Antidumping Administrative Review; Notice of Amended Final Results, 86 FR 54156 (September 30, 2021) (Amended Final Results).

Notification to Interested Parties

This notice is issued and published in accordance with sections 751(a)(1) and 777(i)(1) of the Tariff Act of 1930, as amended.

Dated: December 3, 2021.
Ryan Majerus,
Deputy Assistant Secretary for Policy and Negotiations, performing the non-exclusive functions and duties of the Assistant Secretary for Enforcement and Compliance.

[FR Doc. 2021-26653 Filed 12-8-21; 8:45 am]

BILLING CODE 3510-DS-P